DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the program in general, contact Lisa L. Reyes, Acting Clerk, United States Court of Federal Claims, 717 Madison Place NW, Washington, DC 20005, (202) 357-6400. For information on HRSA's role in the Program, contact the Director, National Vaccine Injury Compensation Program, 5600 Fishers Lane, Room 08N146B, Rockville, MD 20857; (301) 443-6593, or visit our website at: http://www.hrsa.gov/vaccinecompensation/index.html.

SUPPLEMENTARY INFORMATION: The program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the table) set forth at 42 CFR 100.3. This table lists for each covered childhood vaccine the conditions that may lead to compensation and, for each condition, the time period for occurrence of the first symptom or manifestation of onset or of significant aggravation after vaccine administration. Compensation may also be awarded for conditions not listed in the Table and for conditions that are manifested outside the time periods specified in the table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on November 1, 2017, through November 30, 2017. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading “For Further Information Contact”), with a copy to HRSA addressed to Director, Division of Injury Compensation Programs, Healthcare Systems Bureau, 5600 Fishers Lane, 08N146B, Rockville, MD 20857. The Court's caption (Petitioner's Name v. Secretary of HHS) and the docket number assigned to the petition should be used as the caption for the written submission. Chapter 35 of title 44, United States Code, related to paperwork reduction, does not apply to information required for purposes of carrying out the Program.

Dated: December 18, 2017.
George Sigounas,
Administrator.

List of Petitions Filed

1. Alina Derkach on behalf of E.E.D., Richmond, Virginia, Court of Federal Claims No: 17-1648V

2. Patsy Gipson on behalf of Alfred J. Gipson, Deceased, Garland, Texas, Court of Federal Claims No: 17-1651V

3. Katie Reaves, Florence, California, Court of Federal Claims No: 17-1655V

4. Maria Vasquez, Washington, District of Columbia, Court of Federal Claims No: 17-1658V

5. Berill Blair, Fairbanks, Alaska, Court of Federal Claims No: 17-1659V

6. Kari Lafferty, Roseville, California, Court of Federal Claims No: 17-1660V

7. Wendi Walter and Phillip Walter on behalf of M.W., Decatur, Georgia, Court of Federal Claims No: 17-1663V

8. Robert Neal, Eagan, Minnesota, Court of Federal Claims No: 17-1690V

9. Angela Kay Stacy, Hazard, Kentucky, Court of Federal Claims No: 17-1691V

10. Elizabeth Argiri and Samuel Argiri on behalf of L.A., Roseville, Michigan, Court of Federal Claims No: 17-1715V

11. Mary Jo Accetta, Seattle, Washington, Court of Federal Claims No: 17-1731V

12. Joellen Marie Graef, Ashwaubenon, Wisconsin, Court of Federal Claims No: 17-1735V

13. April Ferguson on behalf of J.F., Cheyenne, Wyoming, Court of Federal Claims No: 17-1737V

14. Kathleen Fox, Blasdell, New York, Court of Federal Claims No: 17-1738V

15. Kameron Blair Hilton, Mooresville, North Carolina, Court of Federal Claims No: 17-1739V

16. Jennifer Feisal Curtis, Yukon, Oklahoma, Court of Federal Claims No: 17-1740V

17. Tracy Martins on behalf of S.M., Washington, District of Columbia, Court of Federal Claims No: 17-1741V

18. Lee Haley, Marshall, Texas, Court of Federal Claims No: 17-1742V

19. Angela Roach, Reno, Nevada, Court of Federal Claims No: 17-1744V

20. Yelena Goyzman, Cleveland, Ohio, Court of Federal Claims No: 17-1745V

21. Larry Nelson, Willmar, Minnesota, Court of Federal Claims No: 17-1747V

22. Diana L. Mitchell, Mechanicsville, Virginia, Court of Federal Claims No: 17-1751V

23. Abigail Holuta, Pittsburgh, Pennsylvania, Court of Federal Claims No: 17-1753V

24. Ignacio Vazquez, Chicago, Illinois, Court of Federal Claims No: 17-1755V

25. Kendra Matthews, Orlando, Florida, Court of Federal Claims No: 17-1761V

26. Judianne Lynch, Seattle, Washington, Court of Federal Claims No: 17-1762V

27. Ruby Best-McRae, Claxton, Georgia, Court of Federal Claims No: 17-1764V

28. Tamara N. Jackson, Kuna, Idaho, Court of Federal Claims No: 17-1766V

29. Kathryn Rector, Boston, Massachusetts, Court of Federal Claims No: 17-1767V

30. Beth Cormier, Lowell, Massachusetts, Court of Federal Claims No: 17-1768V

31. Kasey Pientowaski on behalf of J.S., Morton, Mississippi, Court of Federal Claims No: 17-1769V

32. Mark Rose and Denise Sheffield-Rose on behalf of A.R., Wesley Chapel, Florida, Court of Federal Claims No: 17-1770V

33. Sharon Orange, Lynchburg, Virginia, Court of Federal Claims No: 17-1771V

34. Kimberly Truett, Jupiter, Florida, Court of Federal Claims No: 17-1772V

35. Rebecca Sandler, Washington, District of Columbia, Court of Federal Claims No: 17-1773V

36. Eston Hood, Lithonia, Georgia, Court of Federal Claims No: 17-1774V

37. Jackie Ratliff, Centreville, Illinois, Court of Federal Claims No: 17-1777V

38. Bridget Kling, Chalmette, Louisiana, Court of Federal Claims No: 17-1778V

39. Lori Welch, Farmington Hills, Michigan, Court of Federal Claims No: 17-1779V

40. Susan Beeson, Whittier, California, Court of Federal Claims No: 17-1781V

41. Magalis Tijerina, Dallas, Texas, Court of Federal Claims No: 17-1783V

42. Justin Ryder, Orange, California, Court of Federal Claims No: 17-1787V

43. Deborah Franklin, St. Louis, Missouri, Court of Federal Claims No: 17-1789V

44. Michael Riley and Jocelyn V. Riley on behalf of A.C.R., Harlan, Iowa, Court of Federal Claims No: 17-1790V

45. Samantha Destura, Beverly Hills, California, Court of Federal Claims No: 17-1792V

46. Steven Widner, Washington, District of Columbia, Court of Federal Claims No: 17-1795V

47. Nathen DiMaggio, Farmington Hills, Michigan, Court of Federal Claims No: 17-1799V

48. Miguel Gomez, Vallejo, California, Court of Federal Claims No: 17-1800V

49. Elizabeth Teter on behalf of S.T., Mentor, Ohio, Court of Federal Claims No: 17-1801V

50. Breunna Bingham, Glendale, California, Court of Federal Claims No: 17-1803V

51. Mark Olsavicky, Jr. and Autumn Olsavicky on behalf of J.O., Deceased, Munhall, Pennsylvania, Court of Federal Claims No: 17-1806V

52. Ronald Dean Cummings, Chester, Virginia, Court of Federal Claims No: 17-1807V

53. Bruce Fedewa, Lansing, Michigan, Court of Federal Claims No: 17-1808V

54. Jeffrey L. Johnson, Fairfax, Virginia, Court of Federal Claims No: 17-1810V

55. Cheryl M. Baker, Prescott Valley, Arizona, Court of Federal Claims No: 17-1811V

56. Rachelle Mudrack, Shipshewana, Indiana, Court of Federal Claims No: 17-1813V

57. Patricia Stolberg on behalf of Peter Stolberg, Deceased, Sarasota, Florida, Court of Federal Claims No: 17-1815V

58. Indigo Grant on behalf of M.G., Deceased, Wappingers Falls, New York, Court of Federal Claims No: 17-1816V

59. Ana Oquendo Vazquez and Artemio Ramirez Garcia on behalf of A. R., Norcross, Georgia, Court of Federal Claims No: 17-1817V

60. Mary Hlad, Lebanon, Tennessee, Court of Federal Claims No: 17-1818V

61. Mark Pfeifer on behalf of Ronald Vincent Pfeifer, Deceased, Las Vegas, Nevada, Court of Federal Claims No: 17-1824V

62. Maria Cristina Rubio on behalf of Alex Rubio, Jr., Oklahoma City, Oklahoma, Court of Federal Claims No: 17-1827V

63. Peggy Dougherty, Ft. Myers, Florida, Court of Federal Claims No: 17-1829V

64. Afshin Khan, New Orleans, Louisiana, Court of Federal Claims No: 17-1831V

65. Susan Bryce, Torrington, Connecticut, Court of Federal Claims No: 17-1832V

66. Judith Anntoinette Burger, Parkville, Maryland, Court of Federal Claims No: 17-1835V

67. Vanessa K. Drake and Lance Drake on behalf of T.B.D., Glendale, California, Court of Federal Claims No: 17-1836V

68. Praveen Mathada, San Diego, California, Court of Federal Claims No: 17-1837V

69. Teresa Kellett on behalf of B.K., Waxahachie, Texas, Court of Federal Claims No: 17-1840V

70. Harold A. Mojicatoro, Philadelphia, Pennsylvania, Court of Federal Claims No: 17-1841V

71. Patricia Sharp, Apple Valley, Minnesota, Court of Federal Claims No: 17-1844V

72. Louise Brinskelle, Staten Island, New York, Court of Federal Claims No: 17-1845V

73. Deborah Hardiman, Wellesley Hills, Massachusetts, Court of Federal Claims No: 17-1846V

74. Orangie Robinson, Washington, District of Columbia, Court of Federal Claims No: 17-1848V

75. Robert Joseph Gardner, Salt Lake City, Utah, Court of Federal Claims No: 17-1851V

76. Barbara Dolan, Beverly Hills, California, Court of Federal Claims No: 17-1855V

77. Bryan Armbruster, Memphis, Tennessee, Court of Federal Claims No: 17-1856V

78. Janice Espinosa, Dresher, Pennsylvania, Court of Federal Claims No: 17-1857V

[FR Doc. 2017-27961 Filed 12-26-17; 8:45 am]

BILLING CODE 4165-15-P